ENVIRONMENTAL PROTECTION AGENCY

[FRL-8715-5]

Clean Water Act Section 303(d): Availability of List Decisions

AGENCY: Environmental Protection Agency (EPA).

ACTION: Notice of Availability.

SUMMARY: This notice announces the availability of EPA's Responsiveness Summary Concerning EPA's June 17, 2008 Public Notice of Final Decisions To Add Waters and Pollutants to Arkansas' 2006 Section 303(d) List.

On June 17, 2008, EPA published a notice in the Federal Register at Volume 73, Number 117, pages 34295-34296 providing the public the opportunity to review its final decisions to add waters and pollutants to Arkansas' 2006 Section 303(d) List as required by EPA's Public Participation regulations (40 CFR Part 25). Based on the Responsiveness Summary, EPA has decided to remove six waterbody pollutant combinations identified in EPA's Final Action on Arkansas' 2006 Section 303(d) list based on additional information provided by the Arkansas Department of Environmental Quality. Therefore, EPA has revised its decision to disapprove Arkansas' decisions not to list 73 water body-pollutant combinations instead of 79 waterbody pollutant combinations. A listing of these 73 water body pollutant-combinations along with priority rankings for inclusion on the 2006 Section 303(d) List can be found in Table 2 of EPA's Responsiveness Summary.

ADDRESSES: Copies of EPA's Responsiveness Summary Concerning EPA's June 17, 2008 Public Notice of Final Decisions to Add Waters and Pollutants to Arkansas; 2006 Section 303(d) List and the list of 73 waterbody-pollutant pairs can be obtained at EPA Region 6's Web site at http://www.epa.gov/region06/water/npdes/tmdl/index.htm, or by writing or calling Ms. Diane Smith at Water Quality Protection Division, U.S. Environmental Protection Agency Region 6, 1445 Ross Ave., Dallas, TX 75202-2733, telephone (214) 665-2145, facsimile (214) 665-6490, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

Consistent with EPA's regulations, Arkansas submitted to EPA its listing decisions under Section 303(d) on April 28, 2008. On June 6, 2008, EPA approved Arkansas' listing of 321 water body-pollutant combinations and associated priority rankings. EPA took neither an approval or disapproval action on 36 waters listed for beryllium. EPA disapproved Arkansas' decisions not to list 79 water body-pollutant combinations. Based on the public comments, EPA has revised its decision to disapprove Arkansas's decision not to list 73 water body-pollutant combinations. A listing of these 73 water body pollutant-combinations along with priority rankings for inclusion on the 2006 Section 303(d) List can be found in Table 2 of EPA's Responsiveness Summary.

Dated: September 5, 2008.
William K. Honker,
Deputy Director, Water Quality Protection Division, Region 6.

[FR Doc. E8-21498 Filed 9-12-08; 8:45 am]

BILLING CODE 6560-50-P